DEPARTMENT OF HEALTH AND HUMAN SERVICES

Centers for Disease Control and Prevention

[30Day-11-11IN]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an email to omb@cdc.gov. Send written comments to CDC Desk Officer, Office of Management and Budget, Washington, DC or by fax to (202) 395-5806. Written comments should be received within 30 days of this notice.

Proposed Project

Testing and Evaluation of Tobacco Communication Activities—New—Office on Smoking and Health (OSH), National Center for Chronic Disease Prevention and Health Promotion (NCCDPHP), Centers for Disease Control and Prevention (CDC).

Background and Brief Description

Tobacco use remains the leading preventable cause of death in the United States. Recent legislative developments highlight the importance of tobacco control—and appropriate tobacco control messages—in efforts to improve the nation's health. These developments include the Prevention and Public Health Fund, established by the Affordable Care Act (ACA), which supports initiatives designed to reduce the health and financial burden of tobacco use through prevention and cessation approaches.

CDC requests OMB approval of a new, generic clearance mechanism to support information collection for the development, implementation and evaluation of tobacco-related health messages, health communication programs, and campaigns. The proposed generic mechanism will establish a unified clearance framework for a broad array of tobacco-related communication activities, which may occur on an as-needed basis, or in the context of a coordinated series of activities. A generic clearance is needed to support the breadth, flexibility and time-sensitivity of information collections required to plan, execute and evaluate an ACA-funded tobacco communication campaign, as well as ongoing health communication efforts in CDC's Office on Smoking and Health (OSH). OSH employs a strategic and systematic approach to the design and evaluation of high-quality health messages and campaigns, by applying scientific methods to the development of health messages, obtaining input from public health partners, and pre-testing with target audiences.

OMB approval for each data collection activity conducted under the generic clearance will be requested through a specific Information Collection Request that describes the activity's purpose, use, methodology, and burden on respondents. A variety of methods will be employed, including:

(1) In-depth interviews, such as cognitive interviews and interviews with key informants. In-depth interviews will typically be conducted in-person with an average burden per response of one hour. The total estimated annualized burden for in-depth interviews is 67 hours.

(2) In-person focus groups, primarily for creative concept testing, and online focus groups, primarily for social media concept testing. The estimated burden per response is 1-1.5 hours. The total estimated annualized burden for focus groups is 360 hours.

(3) Short surveys involving an average burden per response of 10 minutes, conducted online or through bulletin boards, for message platform testing, message validation and copy testing, pilot evaluation activities, and rough cut testing. The total estimated annualized burden for short surveys is 1,334 hours.

(4) Medium-length surveys involving an average burden of 25 minutes per response, conducted by telephone or online, for campaign evaluation, quantitative social media concept testing, and validation of advertisements and Surgeon General report materials. The total estimated annualized burden for medium-length surveys is 5,555 hours.

(5) In-depth surveys involving an average burden of one hour per response, for formative testing, outcome evaluation, and analyses of exposure, awareness, and knowledge, attitudes or behavior. The total estimated annualized burden for in-depth surveys is 1,292 hours.

Results of these information collections will be used to improve the clarity, salience, appeal, and persuasiveness of messages and campaigns that support the prevention and control of tobacco use.

Approval of the generic mechanism is requested for three years. Respondents will be members of the general public or target populations. Participation in data collection is voluntary, and there are no costs to respondents other than their time. The total estimated annualized burden hours are 8,608.

Estimated Annualized Burden Hours
Type of respondents | Data collection method | Number of respondents | Number of responses per respondent | Average burden per response
General Public and Special Populations | In-depth Interviews | 67 | 1 | 1
| Focus Groups (In Person) | 160 | 1 | 1.5
| Focus Groups (Online) | 120 | 1 | 1
| Short Surveys | 8,001 | 1 | 10/60
| Medium Surveys | 13,334 | 1 | 25/60
| In-depth Surveys | 1,292 | 1 | 1

Dated: September 22, 2011.
Daniel Holcomb,
Reports Clearance Officer, Centers for Disease Control and Prevention.

[FR Doc. 2011-25005 Filed 9-28-11; 8:45 am]

BILLING CODE 4163-18-P